INTERNATIONAL TRADE COMMISSION

[Investigation Nos. 701-TA-491-493, 495, and 497 (Final)]

Frozen Warmwater Shrimp From China, Ecuador, India, Malaysia, and Vietnam

Determinations

On the basis of the record ¹ developed in the subject investigations, the United States International Trade Commission (Commission) determines, pursuant to section 705(b) of the Tariff Act of 1930 (19 U.S.C. 1671d(b)) (the Act), that an industry in the United States is not materially injured or threatened with material injury, and the establishment of an industry in the United States is not materially retarded by reason of imports from China, Ecuador, India, Malaysia, and Vietnam of frozen warmwater shrimp, provided for in subheadings 0306.17.00, 1605.21.10, and 1605.29.10 of the Harmonized Tariff Schedule of the United States, that have been found by the Department of Commerce (Commerce) to be subsidized by the Governments of China, Ecuador, India, Malaysia, and Vietnam.²

¹ The record is defined in sec. 207.2(f) of the Commission's Rules of Practice and Procedure (19 CFR 207.2(f)).

² Chairman Irving A. Williamson and Commissioner Shara L. Aranoff dissenting.

Background

The Commission instituted these investigations effective December 28, 2012, following receipt of a petition filed with the Commission and Commerce by the Coalition of Gulf Shrimp Industries, Biloxi, MS. The final phase of the investigations was scheduled by the Commission following notification of preliminary determinations by Commerce that imports of frozen warmwater shrimp from countries under investigation were being subsidized within the meaning of section 703(b) of the Act (19 U.S.C. 1671b(b)).³ Notice of the scheduling of the final phase of the Commission's investigations and of a public hearing to be held in connection therewith was given by posting copies of the notice in the Office of the Secretary, U.S. International Trade Commission, Washington, DC, and by publishing the notice in the Federal Register of June 13, 2013 (78 FR 35643). The hearing was held in Washington, DC, on August 13, 2013, and all persons who requested the opportunity were permitted to appear in person or by counsel.

³ In its preliminary determinations, Commerce found that imports of frozen warmwater shrimp from Ecuador and Indonesia were not being and not likely to be subsidized by the Governments of Ecuador or Indonesia (78 FR 33342-33351, June 4, 2013). However, in its final determinations, Commerce found imports of frozen warmwater shrimp from Ecuador were being subsidized, but that imports of frozen warmwater shrimp from Thailand in addition to those from Indonesia were not being and not likely to be subsidized by the Governments of Indonesia and Thailand. Following final negative determinations by Commerce with respect to frozen warmwater shrimp from Indonesia and Thailand (78 FR 50379-50394, August 19, 2013), the Commission terminated investigation Nos. 701-TA-494 and 496 (78 FR 54912, September 6, 2013).

The Commission completed and filed its determinations in these investigations on October 21, 2013.⁴ The views of the Commission are contained in USITC Publication 4429 (October 2013), entitled Frozen Warmwater Shrimp from China, Ecuador, India, Malaysia, and Vietnam: Investigation Nos. 701-TA-491-493, 495, and 497 (Final).

⁴ Due to the lapse in appropriations and ensuing cessation of Commission operations, all import injury investigations conducted under authority of Title VII of the Tariff Act of 1930 have been tolled by 16 days.

Dated: October 21, 2013.
By order of the Commission.
Lisa R. Barton,
Acting Secretary to the Commission.

[FR Doc. 2013-25112 Filed 10-24-13; 8:45 am]

BILLING CODE 7020-02-P